FEDERAL RESERVE SYSTEM

Formations of, Acquisitions by, and Mergers of Savings and Loan Holding Companies

The company listed in this notice has applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote the shares of a savings association.

The application listed below is available for immediate inspection at the Federal Reserve Bank indicated. The application also will be available for inspection at the offices of the Board of Governors. Interested persons may express their views in writing on whether the proposed transaction complies with the standards enumerated in the HOLA (12 U.S.C. 1467a(e)).

Unless otherwise noted, comments regarding each of these applications must be received at the Reserve Bank indicated or the offices of the Board of Governors not later than October 21, 2019.

A. Federal Reserve Bank of Cleveland (Mary S. Johnson, Vice President) 1455 East Sixth Street, Cleveland, Ohio 44101-2566. Comments can also be sent electronically to Comments.applications@clev.frb.org:

1. First Mutual Holding Company, Lakewood, Ohio; a mutual savings and loan holding company, to acquire Blue Grass Federal Savings and Loan Association, Paris, Kentucky, a standalone federal mutual savings association, through the merger of Blue Grass Federal Savings and Loan Association with an interim federal savings association subsidiary of First Mutual Holding Company, pursuant to section 10(e) of the Home Owners' Loan Act.

Board of Governors of the Federal Reserve System, September 17, 2019.
Yao-Chin Chao,
Assistant Secretary of the Board.

[FR Doc. 2019-20456 Filed 9-20-19; 8:45 am]

BILLING CODE P